DEPARTMENT OF ENERGY

Federal Energy Regulatory Commission

[Docket No. CP03-21-000]

In the Matter of Southern Natural Gas Company; Notice of Application

December 23, 2002.

Take notice that on December 10, 2002, Southern Natural Gas Company (Southern) P.O. Box 2563, Birmingham, Alabama 35202-2563, filed an abbreviated application pursuant to section 7(b) of the Natural Gas Act, as amended, and sections 157.7 and 157.14 of the Commission's regulations for authorization to abandon the storage services, previously authorized in Docket No. CP79-374 (12 FERC § 61,194), rendered under Southern's CSS-1 and CSS-2 Rate Schedules on behalf of Atlanta Gas Light Company, City of LaGrange, Georgia, and Albany Water, Gas and Light Commission, effective as of the end of the gas day of March 31, 2003. The application is on file with the Commission and open to public inspection.

Southern states that it has provided off-system storage service on behalf of these customers pursuant to its Rate Schedules CSS-1 and CSS-2 under Volume No. 2A of its FERC Gas Tariff. Since Southern was unable to arrange for a storage service on its own system, it arranged with ANR Storage Company to make available to Southern storage which enabled Southern to provide the storage service called for in the Stipulation and Agreement approved in Opinion No. 786. In addition, in order to arrange for the delivery to and redelivery from ANR Storage Company of volumes to be stored, Southern entered into transportation agreements with ANR Pipeline Company. Southern provided this storage service to its customers on a 50-day and 100-day basis under Rate Schedules CSS-1 and CSS-2, respectively, pursuant to storage service agreements dated as of June 1, 1979. All three of these customers have given Southern notice to terminate the referenced storage services at the end of the primary term of March 31, 2003.

Any person desiring to be heard or to make any protest with reference to said application should on or before January 13, 2003, file with the Commission, 888 First Street, NE., Washington, DC 20426, a motion to intervene or protest in accordance with the requirements of the Commission's rules of practice and procedure, 18 CFR 385.211 or 385.214, and the regulations under the Natural Gas Act, 18 CFR 157.10. All protests filed with the Commission will be considered by it in determining the appropriate action to be taken but will not serve to make the protestants parties to the proceedings. Any person wishing to become a party to a proceeding or to participate as a party in any hearing therein must file a motion to intervene in accordance with the Commission's rules.

Take further notice that, pursuant to the authority contained in and subject to the jurisdiction conferred upon the Commission by sections 7 and 15 of the Natural Gas Act and the Commission's rules of practice and procedure, a hearing will be held without further notice before the Commission or its designee on this application if no motion to intervene is filed within the time required herein or if the Commission on its own review of the matter finds that a grant of the subject authorization is required by the public convenience and necessity. If a motion for leave to intervene is timely filed or if the Commission on its own motion believes that formal hearing is required, further notice of such hearing will be duly given.

Under the procedure herein provided for, unless otherwise advised, it will be unnecessary for Southern to appear or be represented at the hearing.

Linwood A. Watson, Jr.,
Deputy Secretary.

[FR Doc. 02-32868 Filed 12-27-02; 8:45 am]

BILLING CODE 6717-01-P